DEPARTMENT OF TRANSPORTATION

Federal Highway Administration

[Docket No. FHWA-2024-0009]

Agency Information Collection Activities: Notice of Request for Renewal of Currently Approved Information Collection

AGENCY: Federal Highway Administration (FHWA), DOT.

ACTION: Notice of request for extension of currently approved information collection.

SUMMARY: The FHWA has forwarded the information collection request described in this notice to the Office of Management and Budget (OMB) for approval of a renewal of information collection. We published a Federal Register Notice with a 60-day public comment period on this information collection on October 31, 2023. We are required to publish this notice in the Federal Register by the Paperwork Reduction Act of 1995.

DATES: Please submit comments by March 11, 2024.

ADDRESSES: You may submit comments identified by DOT Docket ID Number 0009 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Mr. Omar Elkassed, (213) 894-6718, Office of Stewardship, Oversight, and Program Management, Federal Highway Administration, Department of Transportation, 888 South Figueroa Street, Suite 440, Los Angeles, CA 90017. Office hours are from 7 a.m. to 4 p.m., Monday through Friday, except Federal holidays.

SUPPLEMENTARY INFORMATION: The comments and FHWA's responses to the 60-day notice published October 31, 2023 at 88 FR 74557 are below:

• Virginia Department of Transportation (VDOT)

○ Whether the proposed collection is necessary for the FHWA 's performance:

The Fiscal Management Information System (FMIS), which generates the project agreement, contains a PREFIX Field, which is established at the onset of a project on the state's allocation. As estimates are updated, multiple fund sources can be added to a project at the state's discretion; however, the PREFIX field is not required to be revised as additional federal funding sources are added. VDOT therefore recommends that the PREFIX Field be removed from FMIS, as it does not appear to serve any purpose from the state's perspective.

Response: The prefix field on the project detail screen is an optional field and will not prevent you from obligating funds.

○ The accuracy of the estimated burdens:

Based on the complexity and the phase of project data required, Virginia averages an estimated 1.0 to 1.5 how-s to complete a project agreement.

Response: Thank you for your input on the estimated duration to complete a project agreement in Virginia. The estimated burdens hours in the notice is based on nationwide average.

○ Ways for the FHWA to enhance the quality, usefulness and clarity of the collected information.

VDOT recommends that FHWA develop additional standard reports for states to utilize on data fields in FMIS for analysis of data as needed. That would save time so that states would not have to create reports on their own using the Business Objects tool within FMIS. Additionally, it would ensure that all states are consistently reporting data from the same source in response to FHWA requests.

Response: FMIS has a set of standard reports in the Reports module in FMIS and a set of Resource Center and developer created reports in Business Objects under the following Public Folders: BUGS University—Help, Delphi Reporting Tool (DRT), and FMIS5. If your state would like assistance to develop specific reports for your state, you may reach out to the FDAT for assistance.

○ Ways that the burden could be minimized, including the use of electronic technology, without reducing the quality of the collected information

VDOT recommends that FHWA provide clearer communication to states when/if FHWA updates FMIS in order to allow states sufficient time to update their IT requirements/recode data for FHWA's Electronic Data System (EDS).

Response: In September 2023, we extended the FMIS system change notification period to states from 60-days to 90-days. Recipients receive notification from their Division Office of these changes and are notified on the FMIS opening page message board after sign in.

• California Department of Transportation

○ Caltrans recommends that state requests for agreement modifications resulting in net-zero obligation be allowed when the unobligated apportionment balance is less than the obligation amount of the request, without considering the de-obligation portion.

○ Response: The Fiscal Management Information System (FMIS) must validate funding availability in FMIS and Delphi. In the instance of a de-obligation when unobligated apportionment balance is zero or less than the obligation request, FMIS indicates an over-obligation error until the de-obligation is posted to Delphi. Once posted to Delphi, new obligations may occur up to the unobligated balance.

Title: Preparation and Execution of the Project Agreement and Modifications.

OMB Control #: 2125-0529.

Background: Formal agreements between State Transportation Departments and the FHWA are required for Federal-aid highway projects. These agreements, referred to as “project agreements” are written contracts between the State and the Federal government that define the extent of work to be undertaken and commitments made concerning a highway project. Section 1305 of the Transportation Equity Act for the 21st Century (TEA-21, Pub. L. 105-178) amended 23 U.S.C. 106(a) and combined authorization of work and execution of the project agreement for a Federal-aid project into a single action. States continue to have the flexibility to use whatever format is suitable to provide the statutory information required, and burden estimates for this information collection are not changed.

Respondents: There are 56 respondents, including 50 State Transportation Departments, the District of Columbia, the Commonwealth of Puerto Rico, the Commonwealth of the Northern Mariana Islands, Guam, the Virgin Islands and American Samoa. Depending on the size of and activity in the above government agencies, the number of project agreements executed in any agency ranges between 10 and 1,500.

Frequency: On an on-going basis as project agreements are written.

Estimated Average Burden per Response: There is a total of 23,809 agreements per year. Each agreement requires 1 hour to complete.

Estimated Total Annual Burden Hours: Total estimated average annual burden is 23,809 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued On: February 5, 2024.
Jazmyne Lewis,
Information Collection Officer.

[FR Doc. 2024-02572 Filed 2-7-24; 8:45 am]

BILLING CODE 4910-22-P